DEPARTMENT OF LABOR

Employment and Training Administration

[TA-W-72,900]

Ceva Freight, LLC, Dell Logistics Division, Including On-Site Leased Workers From Prologistix and Employment Staffing Solutions, Winston-Salem, NC; Amended Certification Regarding Eligibility To Apply for Worker Adjustment Assistance

In accordance with Section 223 of the Trade Act of 1974, as amended (“Act”), 19 U.S.C. 2273, the Department of Labor issued a Certification of Eligibility to Apply for Worker Adjustment Assistance on March 19, 2010, applicable to workers of CEVA Freight, LLC, Dell Logistics Division, including on-site leased workers from Prologistix, Winston-Salem, North Carolina. The notice was published in the Federal Register on April 23, 2010 (75 FR 21357).

At the request of the State Agency, the Department reviewed the certification for workers of the subject firm. The workers supply freight management services.

The company reports that workers leased from Employment Staffing Solutions were employed on-site at the Winston-Salem, North Carolina location of CEVA Freight, LLC, Dell Logistics Division. The Department has determined that these workers were sufficiently under the control of the subject firm to be considered leased workers.

Based on these findings, the Department is amending this certification to include workers leased from Employment Staffing Solutions working on-site at the Winston-Salem, North Carolina location of CEVA Freight, LLC, Dell Logistics Division.

The intent of the Department's certification is to include all workers employed at CEVA Freight, LLC, Dell Logistics Division, Winston-Salem, North Carolina who were adversely affected as a supplier of freight management services.

The amended notice applicable to TA-W-72,900 is hereby issued as follows:

All workers of CEVA Freight, LLC, Dell Logistics Division, including on-site leased workers from Prologistix and Employment Staffing Solutions, Winston-Salem, North Carolina, who became totally or partially separated from employment on or after November 18, 2008, through March 19, 2012, and all workers in the group threatened with total or partial separation from employment on the date of certification through two years from the date of certification, are eligible to apply for adjustment assistance under Chapter 2 of Title II of the Trade Act of 1974, as amended.

Signed at Washington, DC this 21st day of June 2010.
Del Min Amy Chen,
Certifying Officer, Division of Trade Adjustment Assistance.

[FR Doc. 2010-16022 Filed 6-30-10; 8:45 am]

BILLING CODE 4510-FN-P